DEPARTMENT OF THE INTERIOR

Bureau of Land Management

[NV-910-07-1990-EX]

Notice of Intent To Prepare a Supplemental Environmental Impact Statement for the January 2007 Amendment to the Plan of Operations for the Barrick Goldstrike Mine (Also Known as the Betze Project), Nevada

AGENCY: Bureau of Land Management, Interior.

ACTION: Notice of intent.

SUMMARY: In accordance with Section 102(2)(C) of the National Environmental Policy Act of 1969 and 43 CFR part 3809, the Bureau of Land Management (BLM), Elko Field Office will be preparing a Supplemental Environmental Impact Statement (SEIS) to analyze the environmental effects of the proposed amendment to the Plan of Operations for the Goldstrike Mine also known as the Betze Project, 25 miles north of Carlin, Nevada. The original EIS was completed in 1991. The Goldstrike Mine has continued in operation since that date.

DATES: Public comments must be received in the Elko Field Office within 30 days after publication of this notice in the Federal Register.

ADDRESSES: You may submit comments by any of the following methods:

—Fax: (775) 753-0255.

—Mail: Sent to the attention of the January 2007 Barrick Goldstrike Amendment Manager, BLM Elko Field Office, 3900 East Idaho Street, Elko, NV 89801.

FOR FURTHER INFORMATION CONTACT: Kirk Laird, Project Manager at the Elko Field Office, 3900 E. Idaho, Elko, NV 89801. Telephone (775) 753-0200.

SUPPLEMENTARY INFORMATION: The current amendment proposes to expand the Goldstrike Mine from 7,771 acres of disturbance to 9,031 acres of which 493 acres of new disturbance will be on public land managed by the BLM Elko Field Office. The proposed amendment includes four primary components: (1) A third tailings facility, which includes burial of an existing tailings facility, (2) a new waste rock facility (Clydesdale), (3) an expansion of the open pit by 296 acres, which will result in an increase of the size of the post-mining pit lake from 800 to 900 acres, and (4) an extension of mining activities until approximately 2015, including mining employment for 4 years as well as an extension of the dewatering program to maintain the water table at its current level for an additional four years. Ancillary disturbance includes a new haul road with culverts over Rodeo Creek, an intermittent drainage, diversion channels for a portion of the Brush Creek, an intermittent drainage, and Rodeo Creek, and accelerated reclamation of the Bazza Waste Rock Facility. A focal point of the SEIS will be the analysis of the cumulative impacts of mining and related actions along the Carlin Trend, including incorporation of the re-analysis of cumulative impacts for the Leeville and South Operations Area Projects currently underway by the Elko Field Office. The BLM is asking the public for information on any issues, including cumulative impacts, relevant to this amendment. Comments, including names and street addresses of respondents, will be available for public review at the above address during regular business hours 7:30 a.m. to 4:30 p.m., Monday through Friday, except holidays, and may be published as part of the SEIS. Before including your address, phone number, e-mail address, or other personal identifying information in your comment, you should be aware that your entire comment—including your personal identifying information—may be made publicly available at any time. While you can ask us in your comment to withhold your personal identifying information from public review, we cannot guarantee that we will be able to do so.

Danielle Yroz,
Associate Field Manager.

[FR Doc. E7-10162 Filed 5-25-07; 8:45 am]

BILLING CODE 4310-HC-P